COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) and service(s) to the Procurement List that will be furnished by nonprofit agencies employing persons who are blind or have other severe disabilities.

DATES: Date added to and deleted from the Procurement List: October 16, 2022.

ADDRESSES: Committee for Purchase From People Who Are Blind or Severely Disabled, 355 E Street SW, Washington, DC 20024.

FOR FURTHER INFORMATION CONTACT: Michael R. Jurkowski, Telephone: (703) 785-6404, or email CMTEFedReg@AbilityOne.gov.

SUPPLEMENTARY INFORMATION:

Additions

On 6/10/2022, 6/24/2022, and 7/15/2022, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s): 6930-01-692-1671—Set, Army Combat Fitness Equipment (ACFT)

Designated Source of Supply: Envision, Inc., Wichita, KS

Mandatory For: 100% of the requirement of the U.S. Army

Contracting Activity: DEFENSE LOGISTICS AGENCY, DLA TROOP SUPPORT C&E (L&M PV)

Distribution: C-List

The Committee finds good cause to dispense with the 30-day delay in the effective date normally required by the Administrative Procedure Act. See 5 U.S.C. 553(d). This addition to the Committee's Procurement List is effectuated due to funding for the Defense Logistics Agency Troop Support contract. The Federal customer contacted and has worked diligently with the AbilityOne Program to fulfill this service need under the AbilityOne Program. To avoid performance disruption, and the possibility that the Defense Logistics Agency Troop Support will refer its business elsewhere, this addition must be effective on September 30, 2022, ensuring timely execution for a October 1, 2022, start date while still allowing 14 days for comment. The Committee published a notice of proposed Procurement List addition in the Federal Register on June 10, 2022 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service(s)

Service Type: Facilities Support Services

Mandatory for: US Navy, Naval Sea Systems Command, Southwest Regional Maintenance Center, Naval Base San Diego, Naval Base Coronado (North Island), and Naval Base Point Loma, San Diego, CA

Designated Source of Supply: Professional Contract Services, Inc., Austin, TX

Contracting Activity: DEPT OF THE NAVY, SOUTHWEST REGIONAL MAINT CENTER

The Committee finds good cause to dispense with the 30-day delay in the effective date normally required by the Administrative Procedure Act. See 5 U.S.C. 553(d). This addition to the Committee's Procurement List is effectuated because of the expiration of the U.S. Navy, Facilities Support Services contract. The Federal customer contacted and has worked diligently with the AbilityOne Program to fulfill this service need under the AbilityOne Program. To avoid performance disruption, and the possibility that the U.S. Navy will refer its business elsewhere, this addition must be effective on September 30, 2022, ensuring timely execution for an October 1, 2022, start date while still allowing 14 days for comment. Pursuant to its own regulation 41 CFR 51-2.4, the Committee determined that no severe adverse impact exists. The Committee also published a notice of proposed Procurement List addition in the Federal Register on July 15, 2022 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service Type: Mail and Courier Services

Mandatory for: U.S. Customs and Border Protection, Port of JFK Mailroom, Jamaica, NY and Port of New York/Newark Mailroom, Newark, NJ

Designated Source of Supply: The Corporate Source, Inc., Garden City, NY

Contracting Activity: U.S. CUSTOMS AND BORDER PROTECTION, BORDER ENFORCEMENT CTR DIV

The Commission received one (1) public comment.

The comment articulated the current contractor's concerns regarding the addition of this service to the Procurement List, stating that the current contractor is a certified Service-Disabled Veteran-Owned Small Business and that five percent of its workforce are also disabled veterans. The comments stated that 33 percent of the current contractor's employees live in HUBZones. The current contractor is not, however, a Small Business Administration certified HUBZone business, and did not state whether any of the employees who are veterans or living in a HUBZone work on the requirement proposed for Procurement List addition.

The commenter asserted that people who are blind would not be able to successfully perform the types of services required. The commenter, however, presented no credentials or experience related to determining whether workplaces are accessible to people who are blind. The recommended nonprofit agency to perform the work has demonstrated substantial experience operating mailrooms at other locations for the same customer, in which several employees have significant disabilities.

The commenter expressed concern that the Commission's second notice letter to the current contractor was delivered by the domestic package carrier to the wrong address. The Commission makes every effort to directly notify current contractors in writing, and to send follow-up notices. The Commission points out that its first notice letter was delivered to the current contractor, and its Notice of Proposed Addition in the Federal Register provided additional notice to the firm, resulting in direct communication, after which the Commission forwarded the second notice via email.

The purpose of the AbilityOne Program is to provide employment opportunities for individuals who are blind or have significant disabilities through the delivery of products and services by nonprofit agencies employing such individuals. The Commission applies criteria in accordance with its regulation 41 CFR 51-2.4 and determines whether products or services are suitable to be procured from nonprofit agencies employing people with significant disabilities. In doing so, the Commission considers the employment potential, whether there is a qualified nonprofit agency employing people who are blind or have significant disabilities, whether that nonprofit agency is capable of performing the work, and whether there will be a severe adverse impact on the current contractor. In this case, the Commission found that all suitability criteria were met. The Commission determined that the proposed addition, if approved, will not have a severe adverse impact on the current contractor, based on the information made available for the Commission's review and consideration.

The Committee finds good cause to dispense with the 30-day delay in the effective date normally required by the Administrative Procedure Act. See 5 U.S.C. 553(d). This addition to the Committee's Procurement List is effectuated because of the expiration of the Customs and Border Protection, Mail and Courier Services Ports of JFK, NY and NY/Newark, NJ contract. The Federal customer contacted and has worked diligently with the AbilityOne Program to fulfill this service need under the AbilityOne Program. To avoid performance disruption, and the possibility that the Customs and Border Protection will refer its business elsewhere, this addition must be effective on September 28, 2022, ensuring timely execution for a September 29, 2022, start date while still allowing 12 days for comment. Pursuant to its own regulation 41 CFR 51-2.4, the Committee has been in contact with one of the affected parties, the incumbent of the expiring contract, since March 2022 and determined that no severe adverse impact exists. The Committee also published a notice of proposed Procurement List addition in the Federal Register on June 21, 2022 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Service Type: Postal Service Center Operations

Mandatory for: U.S. Air Force, Travis Air Force Base, CA

Designated Source of Supply: VersAbility Resources, Inc., Hampton, VA

Mandatory Source of Supply: Nobis Enterprises, Inc., Marietta, GA

Contracting Activity: DEPT OF THE AIR FORCE, FA4427 60 CONS LGC

Service Type: Postal Service Center Operations

Mandatory for: U.S. Air Force, Travis Air Force Base, CA

The Committee finds good cause to dispense with the 30-day delay in the effective date normally required by the Administrative Procedure Act. See 5 U.S.C. 553(d). This addition to the Committee's Procurement List is effectuated because of the expiration of the U.S. Air Force contract. The Federal customer contacted and has worked diligently with the AbilityOne Program to fulfill this service need under the AbilityOne Program. To avoid performance disruption, and the possibility that the U.S. Air Force will refer its business elsewhere, this addition must be effective on September 30, 2022, ensuring timely execution for a October 1, 2022, start date while still allowing 14 days for comment. Pursuant to its own regulation 41 CFR 51-2.4, the Committee determined that no severe adverse impact exists. The Committee also published a notice of proposed Procurement List addition in the Federal Register on June 10, 2022 and did not receive any comments from any interested persons, including from the incumbent contractor. This addition will not create a public hardship and has limited effect on the public at large, but, rather, will create new jobs for other affected parties—people with significant disabilities in the AbilityOne program who otherwise face challenges locating employment. Moreover, this addition will enable Federal customer operations to continue without interruption.

Michael R. Jurkowski,
Acting Director, Business Operations.

[FR Doc. 2022-20113 Filed 9-15-22; 8:45 am]

BILLING CODE 6353-01-P